DEPARTMENT OF ENERGY

Federal Energy Regulatory Commission

[Project No. 2630-004]

PacifiCorp; Notice of Extension of Time To File Comments

December 19, 2005.

On November 18, 2005, the Federal Energy Regulatory Commission (Commission) issued a Notice of Availability of Draft Environmental Assessment (EA) for the Prospect Nos. 1, 2, and 4 Hydroelectric Project (Project No. 2630). The Notice requested that comments regarding the Draft EA be filed with the Commission by no later than 45 days from the date of the Notice, which is January 2, 2006. Please take notice that the deadline for comments is now extended to January 20, 2006.

Magalie R. Salas,
Secretary.

[FR Doc. E5-7921 Filed 12-27-05; 8:45 am]

BILLING CODE 6717-01-P